DEPARTMENT OF HOUSING AND URBAN DEVELOPMENT

[FR-5734-N-01]

Availability of HUD's Fiscal Years 2011 and 2012 Service Contract Inventories

AGENCY: Office of the Chief Procurement Officer, HUD.

ACTION: Notice.

SUMMARY: This notice advises of the availability to the public of service contracts awarded by HUD in Fiscal Years (FY) 2011 and 2012.

FOR FURTHER INFORMATION CONTACT: Lisa D. Maguire, Assistant Chief Procurement Officer, Office of Policy, Oversight, and Systems, Office of the Chief Procurement Officer, Department of Housing and Urban Development, 451 7th Street SW., Washington, DC 20410; telephone number 202-708-0294 (this is not a toll-free number) and fax number 202-708-8912. Persons with hearing or speech impairments may access Mr. Blocker's telephone number via TTY by calling the toll-free Federal Relay Service at 800-877-8339.

SUPPLEMENTARY INFORMATION: In accordance with section 743 of Division C of the Consolidated Appropriations Act of 2010 (Pub. L. 111-117, approved December 16, 2009, 123 Stat. 3034, at 123 Stat. 3216), HUD is publishing this notice to advise the public of service contracts inventories that were awarded in FY 2011 and FY 2012. The inventories are organized by function and are reviewed by HUD to better understand how contracted services are used to support HUD's primary mission, to insure HUD maintains an adequate workforce for operations and to research whether contractors were performing inherently governmental functions.

The inventory was developed in accordance with guidance issued on November 5, 2010 by the Office of Management and Budget's Office Federal Procurement Policy (OFPP). OFPP's guidance is available at http://www.whitehouse.gov/sites/default/files/omb/procurement/memo/service-contact-inventories-guidance-11052010/pdf.

HUD has posted its inventory and a summary of the inventory on the Department of Housing and Urban Development's homepage at the following link: http://portal.hud.gov/hudportal/HUD?src=/program_offices/cpo/sci.

Dated: August 21, 2013.
Lisa D. Maguire,
Assistant Chief Procurement Officer.

[FR Doc. 2013-20834 Filed 8-26-13; 8:45 am]

BILLING CODE 4210-67-P